DEPARTMENT OF ENERGY

Federal Energy Regulatory Commission

[Project No. 6474-003]

KC Pittsfield LLC, Daley Energy, LLC; Notice of Transfer of Exemption

1. By letter filed February 15, 2019, KC Pittsfield LLC informed the Commission that the exemption from licensing for the 100-MW Eastman Brook Project No. 6474, originally issued September 7, 1982 ¹ has been transferred from KC Pittsfield LLC to Daley Energy, LLC. The project is located on Eastman Brook in Grafton County, New Hampshire. The transfer of an exemption does not require Commission approval.

¹ Notice of Exemption From Licensing. Eastman Brook Hydro, 20 FERC ¶ 62,426 (1982).

2. Daley Energy, LLC is now the exemptee of the Eastman Brook Project No. 6474. All correspondence should be forwarded to: Mr. Travis Daley, Daley Energy, LLC, 210 Route 10, Piermont, NH 03779, Phone: 802-291-0839, Email: Tdaley210@outlook.com.

Dated: March 7, 2019.
Kimberly D. Bose
Secretary.

[FR Doc. 2019-04682 Filed 3-13-19; 8:45 am]

BILLING CODE 6717-01-P